DEPARTMENT OF COMMERCE

National Oceanic and Atmospheric Administration

[I.D. 040507E]

Fisheries of the South Atlantic; South Atlantic Fishery Management Council; Public Meeting

AGENCY: National Marine Fisheries Service (NMFS), National Oceanic and Atmospheric Administration (NOAA), Commerce.

ACTION: Addendum to a public meeting notice.

SUMMARY: The South Atlantic Fishery Management Council has cancelled a meeting of its Golden Crab Advisory Panel originally scheduled for May 2-3, 2007, in Charleston, SC. The Rock Shrimp Advisory Panel meeting scheduled for May 1-2, 2007 will not be affected. See SUPPLEMENTARY INFORMATION.

DATES: The meeting of the Rock Shrimp Advisory Panel will take place May 1-2, 2007. See SUPPLEMENTARY INFORMATION.

ADDRESSES: The meeting will be held at the Town and Country Inn, 2008 Savannah Highway, Charleston, SC 29407; telephone: (800) 334-6660 or (843) 571-1000; fax: (843) 766-9444.

Council address: South Atlantic Fishery Management Council, 4055 Faber Place Drive, Suite 201, North Charleston, SC 29405.

FOR FURTHER INFORMATION CONTACT: Kim Iverson, Public Information Officer, South Atlantic Fishery Management Council; telephone: (843) 571-4366 or toll free (866) SAFMC-10; fax: (843) 769-4520; email: kim.iverson@safmc.net.

SUPPLEMENTARY INFORMATION: The original notice published in the Federal Register on April 10, 2007 (72 FR 17874). The meeting was for The Council's Rock Shrimp and Golden Crab Advisory Panels. The Golden Crab Advisory Panel meeting is being cancelled.Members of the Rock Shrimp Advisory Panel will meet from 1:30 p.m. - 5 p.m. on May 1, 2007, and from 8:30 a.m. - 12 noon on May 2, 2007. The joint meeting of the Rock Shrimp Advisory Panel and Golden Crab Advisory Panel originally scheduled from 1:30 p.m. - 5 p.m. on May 2, 2007 has been cancelled. The Golden Crab Advisory Panel meeting from 8:30 a.m. - 5 p.m. on May 3, 2007 has been cancelled.All other information previously published remains unchanged.

Special Accommodations

These meetings are physically accessible to people with disabilities. Requests for auxiliary aids should be directed to the Council office (see ADDRESSES) 3 days prior to the meetings.Note: The times and sequence specified in this agenda are subject to change.

Dated: April 19, 2007.
Tracey L. Thompson,
Acting Director, Office of Sustainable Fisheries, National Marine Fisheries Service.

[FR Doc. E7-7779 Filed 4-23-07; 8:45 am]

BILLING CODE 3510-22-S